DEPARTMENT OF EDUCATION

34 CFR Parts 300 and 303

Individuals With Disabilities Education Act, as Amended by the Individuals With Disabilities Education Improvement Act of 2004

AGENCY: Office of Special Education and Rehabilitative Services, Department of Education.

ACTION: Notice of request for comments and recommendations on regulatory issues under the Individuals with Disabilities Education Act (IDEA), as amended by the Individuals with Disabilities Education Improvement Act of 2004.

SUMMARY: The Secretary of Education solicits comments and recommendations from the public prior to developing and publishing proposed regulations under 34 CFR parts 300 and 303 to implement programs under the recently amended IDEA. The Secretary also announces plans to hold informal public meetings to seek further input about those regulations in light of the statutory amendments.

DATES: In order to be assured of consideration as we develop proposed regulations, comments and recommendations should be received on or before February 28, 2005.

ADDRESSES: Address all comments and recommendations to: Office of Special Education and Rehabilitative Services, U.S. Department of Education, 400 Maryland Avenue, SW., Potomac Center Plaza, room 5126, Washington, DC 20202-2641. If you prefer to send your comments through the Internet, you may address them to us at the U.S. Government Web site: http://www.regulations.gov.

Or you may send your Internet comments to us at the following address: comments@ed.gov.

You must include the term “Comments on IDEA-2004” in the subject line of your electronic message. (Note that the term in the preceding sentence means comments submitted in response to changes made to the IDEA by the Individuals with Disabilities Education Improvement Act of 2004.)

Please submit your comments only one time, in order to ensure that we do not receive duplicate copies.

FOR FURTHER INFORMATION CONTACT: Troy R. Justesen. Telephone: (202) 245-7468.

If you use a telecommunications device for the deaf (TDD), you may call the Federal Relay Service (FRS) at 1-800-877-8339.

Individuals with disabilities may obtain this document in an alternative format (e.g., Braille, large print, audiotape, or computer diskette) by contacting the person listed under FOR FURTHER INFORMATION CONTACT.

SUPPLEMENTARY INFORMATION:

Background

On December 3, 2004, the President signed into law Pub. L. 108-446, 118 Stat. 2647, the Individuals with Disabilities Education Improvement Act of 2004, amending the IDEA. Copies of the new law may be obtained at the following Web site: http://www.gpoaccess.gov/plaws/index.html.

Enactment of the new law provides an opportunity to consider improvements in the regulations implementing the IDEA in 34 CFR parts 300 and 303 that would strengthen the Federal effort to ensure the provision of early intervention services to infants and toddlers with disabilities and their families and ensure every child with a disability has available a free appropriate public education that: (1) Is of high quality, and (2) is designed to achieve the high standards reflected in the No Child Left Behind Act of 2001.

Invitation To Comment

We invite you to submit comments and recommendations regarding changes to 34 CFR parts 300 and 303 that you believe are needed, particularly to clarify a provision in the new law or to facilitate its implementation. We encourage you to make your comments as specific as possible regarding the nature and scope of regulatory action necessary to achieve the objective you are seeking. Also, if appropriate to your comments, please identify the specific part and section (or subsection) of the amended IDEA that is the subject of your recommendations, and specify how a proposed change to a given provision in the regulations will clarify or help to improve implementation of the new statutory provision.

Please include the following with your comments and recommendations: A description of the area of your involvement in special education, regular education or early intervention, as well as your role, if any, in that area (e.g., parent, teacher, student, service provider, administrator, or researcher).

During and after the comment period, you may inspect all public comments about this notice in room 5126, Potomac Center Plaza, 550 12th Street, SW., Washington, DC, between the hours of 8:30 a.m. and 4 p.m., eastern time, Monday through Friday of each week except Federal holidays.

Assistance to Individuals With Disabilities in Reviewing the Comments

On request, we will supply an appropriate aid, such as a reader or print magnifier, to an individual with a disability who needs assistance to review the comments and recommendations. If you want to schedule an appointment for this type of aid, please contact the person listed under FOR FURTHER INFORMATION CONTACT.

Announcement of Public Meetings

The following is a preliminary announcement of our plans to hold a series of informal meetings during the first few months of calendar year 2005, to seek comments and recommendations for developing regulations, as needed, based on the Individuals with Disabilities Education Improvement Act of 2004. The meetings will be in the following locations:

• Atlanta, GA;

• Newark, NJ;

• Boston, MA;

• Columbus, OH;

• San Diego, CA;

• Laramie, WY; and

• Washington, DC.

We will notify you through notices published in the Federal Register of the specific dates and locations of each of these meetings, as well as other relevant information.

Electronic Access to This Document: You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 1400 et. seq.; Pub. L. 108-446, 118 Stat. 2647.

Troy R. Justesen,
Acting Deputy Assistant, Secretary for Special Education and Rehabilitative Services.

[FR Doc. 04-28503 Filed 12-28-04; 8:45 am]

BILLING CODE 4000-01-P